DEPARTMENT OF LABOR

Employment and Training Administration

Notice of Determinations Regarding Eligibility to Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of March 31, 2018 through May 15, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
92,182 | Gerdau Ameristeel US, Inc., Calvert City Mill Division, Insight Global and Hire Level | Calvert City, KY | September 6, 2015.
92,990 | Metlcast Products, Metlcast Industries LLC | Salina, KS | June 30, 2016.
93,352 | Tek-Motive, Inc | East Haven, CT | December 7, 2016.
93,408 | Sanmina Corporation, Owego Plant 1205, Adecco NA, Kelly Services | Owego, NY | January 5, 2017.
93,410 | Sutherland Global Services, Inc., Customer Care Support-AT&T DTV Chat Group, Sutherland Global Holdings, Inc | Syracuse, NY | December 27, 2016.
93,432 | Monofrax LLC, Callista Private Equity GmbH | Falconer, NY | January 16, 2017.
93,498 | Yanfeng US Automotive Interior Systems 1, LLC, Malone, Manpower | Highland Park, MI | January 17, 2017.
93,551 | Dormeo, Octaspring Division, Adams and Garth | Winchester, VA | February 13, 2017.
93,592 | Ardagh Glass Inc., Ardagh Holdings (UK) Ltd | Milford, MA | February 20, 2017.
93,608 | Elbeco Incorporated, City Shirt Company Division | Frackville, PA | March 5, 2017.
93,612 | Russell Stover Chocolates, LLC, Lindt & Sprungli, Matern Staffing | Ruther Glen, VA | March 5, 2017.
93,617 | ADM Milling Co., Archer-Daniels-Midland Company, Express Employment Professionals, etc | Lincoln, NE | March 7, 2017.
93,660 | Johnson Rauhoff, Inc | St. Joseph, MI | March 20, 2017.
93,665 | Zurn Industries, LLC, Rexnord-Zurn Holdings, Inc., 1801 Pittsburgh Avenue | Erie, PA | April 20, 2018.
93,665A | Zurn Industries, LLC, Rexnord-Zurn Holdings, Inc., 1302 Raspberry Street | Erie, PA | March 19, 2017.

The following certifications have been issued. The requirements of Section 222(a)(2)(B) (Shift in Production or Services to a Foreign Country Path or Acquisition of Articles or Services from a Foreign Country Path) of the Trade Act have been met.

TA-W No. | Subject firm | Location | Impact date
92,640 | Manpower Group U.S., Inc., Shared Services Department | Milwaukee, WI | February 13, 2016.
92,640A | Manpower Group U.S., Inc., Shared Services Department | Phoenix, AZ | February 13, 2016.
92,685 | Ricoh Electronics Inc., Ricoh Company, Ltd., Kimco Staffing Services | Tustin, CA | February 27, 2016.
92,685A | Ricoh USA | Lincoln, NE | February 27, 2016.
92,685B | Ricoh USA | Omaha, NE | February 27, 2016.
92,772 | SPX Flow ClydeUnion | Battle Creek, MI | March 28, 2016.
92,895 | SmashFly Technologies, Inc., OnPayroll, Gallop Software, Softserve | Concord, MA | May 16, 2016.
93,056 | Microsoft Corporation, Windows and Devices Group (WDG), Surface Hub | Wilsonville, OR | August 2, 2016.
93,126 | Arvato Entertainment, LLC, Bertelsmann, Inc | Weaverville, NC | December 2, 2016.
93,136 | Sykes Enterprises Incorporated, 175 W. Broadway | Eugene, OR | September 12, 2016.
93,136A | Sykes Enterprises Incorporated, 190 W. 8th Avenue | Eugene, OR | September 12, 2016.
93,259 | Legend3D Inc | Los Angeles, CA | October 26, 2016.
93,322 | Unified Grocers, Inc., Supervalu Inc., TCS Consulting, Cognizant Technology Solutions, Talent, etc | Commerce, CA | November 20, 2016.
93,348 | M.Torres America, Inc., M.Torres Disenos Industriales, S.A., Collabera, Launch Technical, etc | Everett, WA | December 5, 2016.
93,359 | Western Union LLC, Western Union Business Solutions (USA) LLC, E Commerce Group Products, etc | Montvale, NJ | December 8, 2016.
93,360 | 5 Point Enterprises LLC, Accounting Department, 5P NH Holding Company LLC, ADP, Accounting, etc | Austin, TX | December 8, 2016.
93,368 | Avanade Inc., Unified Communications and Collaboration Managed Services Division | Seattle, WA | December 13, 2016.
93,370 | Pittsburgh Glass Works LLC, Creighton Plant, Vitro S.A.B. de C.V., Belcan Technical, Robert Half Mgmt | Craighton, PA | December 13, 2016.
93,393 | 3M Purification Inc | Enfield, CT | December 22, 2016.
93,425 | American Express Travel Related Services Company Inc., Global Servicing Network, Global Strategy & Support Department, etc | Phoenix, AZ | January 16, 2017.
93,430 | Ericsson, Inc., Business Unit Networks Services, Global Services Operations, etc | Waltham, MA | January 10, 2017.
93,461 | AT&T Call Center, Southwestern Bell Telephone Company, AT&T Corp, AT&T Services, etc | El Paso, TX | January 24, 2017.
93,471 | Payless ShoeSource Worldwide, Inc., IT Infrastructure and Operations Group | Topeka, KS | January 26, 2017.
93,506 | AIG PC Global Services, Inc., Reinsurance Finance-New York Division, American International Group, etc | New York, NY | January 31, 2017.
93,523 | Sony DADC, Sony Corporation of America, Nexus Employment, CoWorx Staffing, ResourceMFG | Terre Haute, IN | February 4, 2017.
93,533 | Thomson Reuters, Legal, Financial & Risk, Information Security, Randstad Sourceright | Denver, CO | February 7, 2017.
93,538 | Thomson Reuters, Financial & Risk, Reuters & Thomson Reuters Corporate, Randstad Sourceright | New York, NY | February 8, 2017.
93,543 | Ocwen Loan Servicing, LLC, Ocwen Financial Corporation, Kelly Vendor Management Services | Waterloo, IA | April 19, 2018.
93,546 | General Motors, Saginaw Metal Center Operations, Select International | Saginaw, MI | February 13, 2017.
93,549 | CellNetix, Puget Sound Institute of Pathology, CompHealth, Delivery Express, etc | Seattle, WA | February 12, 2017.
93,552 | Penske Logistics, El Paso Distribution Center, Customer Service Group, etc | El Paso, TX | January 22, 2017.
93,559 | Maplehurst Bakeries, LLC, Weston Foods (US), Ambassador, Express Employment Professionals, etc | Nashville, TN | February 15, 2017.
93,565 | AT&T Services, Inc., AT&T Technology Development Business Unit, Application Production, etc | Dallas, TX | February 20, 2017.
93,572 | Smurfit Kappa North America, LLC, Packaging, Smurfit Kappa Group, Integrity Employment Services, etc | City of Industry, CA | February 20, 2017.
93,574 | Zones, Inc., Zones IT Solutions, Inc | Auburn, WA | February 21, 2017.
93,585 | Lufkin Industries LLC, Oilfield â€” Buck Creek, Baker Hughes a GE Company, 3935 FM 326 | Lufkin, TX | May 2, 2017.
93,588 | Tridien Medical, Hill-Rom, Kamran Staffing Inc., KForce Inc | Corona, CA | January 31, 2017.
93,589 | Trelleborg Sealing Profiles U.S., Inc., Trelleborg A.B., Express Employment Professionals | Bristol, IN | February 28, 2017.
93,590 | Optoplex Corporation, Paychex PEO Service | Fremont, CA | February 27, 2017.
93,594 | Kellogg Ready to Eat Cereal Plant—RTEC, Kellogg Company | Battle Creek, MI | March 1, 2017.
93,596 | Lee Enterprises Incorporated, Journal Star Printing Co., Graphic Design Division | Lincoln, NE | March 1, 2017.
93,606 | Cuddledown, Inc., Phone Order/Call Center Services, Potpourri Group, Inc., Coworx Staffing | Yarmouth, ME | March 5, 2017.
93,614 | Xylem, Global Financial Shared Services Division, Xylem Inc, Vortex, etc | Seneca Falls, NY | March 5, 2017.
93,616 | GCL Solar Materials US I, LLC, SunEdison, Express Employment Professionals, LaborWorks Industrial Staffing | Portland, OR | March 6, 2017.
93,619 | AES Ohio Generation (DP&L), JMSS Division, FeeCorp, Williams, Industrial Field Maintenance, Boral, etc | Aberdeen, OH | March 6, 2017.
93,619A | AES Ohio Generation (DP&L), JMSS Division, FeeCorp, Williams, Industrial Field Maintenance, Boral, etc | Manchester, OH | March 6, 2017.
93,619B | AES Ohio Generation (DP&L), Training Center, Adams County Lumber | Manchester, OH | March 6, 2017.
93,621 | DaVita Clinical Research, Early Clinical Division, DaVita, Green Key Solutions, Aerotek | Lakewood, CO | March 6, 2017.
93,621A | DaVita Clinical Research, Early Clinical Division, DaVita, Green Key Solutions, Aerotek | Minneapolis, MN | March 6, 2017.
93,622 | Suntrust Mortgage, Servicing Department | Richmond, VA | March 7, 2017.
93,632 | Confluent Medical Technologies, Ryzen Solutions | Sunnyvale, CA | March 12, 2017.
93,636 | Technicolor Home Entertainment Services Southeast, LLC, Dynamic Staffing, Inc | Olyphant, PA | May 27, 2018.
93,636A | Securitas Security Services USA and Sovereign Commercial Services, LLC, Technicolor Home Entertainment Services Southeast, LLC | Olyphant, PA | March 12, 2017.
93,637 | Optum Operations/Population Health Management Division, Commercial Channel/Clinical Call Unit's Coaching—National Accounts, etc | Eden Prairie, MN | March 13, 2017.
93,637A | Optum Operations/Population Health Management Division, Commercial Channel/Clinical Call Unit | Atlanta, GA | March 13, 2017.
93,637B | Optum Operations/Population Health Management Division, Commercial Channel/Clinical Call Unit | Tonawanda, NY | March 13, 2017.
93,637C | Optum Operations/Population Health Management Division, Commercial Channel/Clinical Call Unit | Richardson, TX | March 13, 2017.
93,637D | Optum Operations/Population Health Management Division, Commercial Channel/Clinical Call Unit | Lisle, IL | March 13, 2017.
93,649 | Genesys, Technical Writer and Technical Documentation Localization | Daly City, CA | March 1, 2017.
93,652 | Startek, Customer Service Call Center | Colorado Springs, CO | March 16, 2017.
93,653 | AES Services Co. LLC, Accounting Division, Nesco Resources | Dayton, OH | March 19, 2017.
93,657 | ACE American Insurance Company dba Chubb, IT Department, Chubb Limited, Chubb INA Holdings Inc | Warren, NJ | March 19, 2017.
93,658 | Motorola Mobility LLC, Lenovo Group Limited, 222 West Merchandise Mart Plaza, Kelly OCG, etc | Chicago, IL | March 15, 2018.
93,658A | SDI, Motorola Mobility LLC, Lenovo Group, 222 West Merchandise Mart Plaza | Chicago, IL | March 16, 2017.
93,661 | dlhBOWLES, Safe Staffing, Employ Temps | Canton, OH | March 20, 2017.
93,661A | dlhBOWLES, Safe Staffing | Carrollton, OH | March 20, 2017.
93,662 | The ESAB Group, Inc., Colfax Corporation, Roper Staffing, Aerotek, Manpower | Union, SC | March 20, 2017.
93,663 | Kerr Corporation, Danaher, Sentech Services | Romulus, MI | March 20, 2017.
93,664 | Transamerican Auto Parts, TAP Worldwide, 4 Wheel Parts, Polaris Industries, etc | Compton, CA | March 20, 2017.
93,666 | Trulife Inc., Trulife Group, Xcel Staffing Inc | Jackson, MI | March 21, 2017.
93,667 | Cargill Meat Solutions Corp., Finance Division, Cargill, Inc., Aerotek, Attero, Russell Tobin, Apex, etc | Wichita, KS | March 22, 2017.
93,669 | E. I. du Pont de Nemours and Company, Chambers Works Aramids Unit, DuPont Chambers Works, DowDupont Inc | Deepwater, NJ | March 22, 2017.
93,670 | MH Sub I, LLC, Auto Credit Express Division, Internet Brands, Inc., Aerotek | Auburn Hills, MI | March 21, 2017.
93,675 | Virgin Atlantic Airways, LTD., Finance Department/Accounts Payable | Norwalk, CT | March 23, 2017.
93,676 | Computer Sciences Corporation (CSC), DXC Technology Company | Norwich, CT | March 23, 2017.
93,678 | North Coast Medical Inc., Customer Service Department | Morgan Hill, CA | March 23, 2017.
93,683 | Caterpillar Work Tools Inc., Caterpillar Inc., Kelly Services, AECom | Waco, TX | March 28, 2017.
93,685 | Interline Brands, Inc., Tax and Accounting Departments, The Home Depot, Inc | Jacksonville, FL | March 28, 2017.
93,685A | Interline Brands, Inc., Tax and Accounting Departments, The Home Depot, Inc | Mt. Laurel, NJ | March 28, 2017.
93,685B | Interline Brands, Inc., Tax and Accounting Departments, The Home Depot, Inc | Bluefield, WV | March 28, 2017.
93,686 | CompuCom, Supply Chain groups for Enterprise Sales Support, etc | Plano, TX | March 29, 2017.
93,688 | Medtronic, PLC, Quality Complaint Handling team, Powered Surgical Solutions Products | Fort Worth, TX | March 28, 2017.
93,690 | Johanson Dielectrics Inc., Snelling Staffing | Sylmar, CA | March 29, 2017.
93,691 | Johanson Technology Inc., Select Staffing, Pridestaff | Camarillo, CA | March 29, 2017.
93,693 | Solo Cup Operating Corporation, Augusta Staffing | Augusta, GA | March 30, 2017.
93,699 | General Electric, GE Power Division | Anasco, PR | April 3, 2017.
93,700 | XPO Logistics Managed Transportation, LLC, Freight Billing Audit and Payment, XPO Logistics, etc | Portland, OR | April 3, 2017.
93,701 | Origio Inc., CooperSurgical Inc., Adecco Staffing, Adams and Garth-Qualified Staffing | Charlottesville, VA | April 4, 2017.
93,703 | National Optronics (N.O.) Acquisition Corporation, Satisloh North America, Essilor Industries, Adecco, Aerotek | Charlottesville, VA | April 4, 2017.
93,715 | Teva Pharmaceuticals, Teva Global Operations (TGO), Kelly Temporary Services Company | Forest, VA | April 10, 2017.
93,716 | Deco Lighting, Aerotek, Fairway Staffing Services | Commerce, CA | April 11, 2017.
93,718 | GE Distributed Power, Inc. d/b/a Waukesha Gas Engines, General Electric Company, Dresser, Inc | Waukesha, WI | January 11, 2018.
93,727 | Spang & Company, Magnetics Division | East Butler, PA | May 18, 2018.
93,727A | Spang & Company, Magnetics Division | Pittsburgh, PA | May 18, 2018.
93,729 | Tridien Medical, Hill-Rom, Affinity Staffing, Aerotek, Can-Am Consultants | Coral Springs, FL | April 12, 2017.
93,730 | Allianz Global Corporate & Specialty, Allianz Global Risks US Insurance Company, N.A | Spokane, WA | April 11, 2017.
93,730A | Allianz Global Corporate & Specialty, Allianz Global Risks US Insurance Company, N.A | Fresno, CA | April 11, 2017.
93,732 | Itron Inc., Technical Support-Hardware and Software Services | Liberty Lake, WA | April 16, 2017.
93,741 | Thomson Reuters, Technology Service Operations & Engineering Unit, Financial & Risk, etc | New York, NY | April 18, 2017.
93,753 | Metaswitch Networks Corp., Support and Professional Services, Metaswitch Networks Ltd | Green Village, CO | April 23, 2017.
93,754 | Monster Moto, LLC, Manpower, Diversity One Staffing, Advantage Resourcing | Ruston, LA | April 23, 2017.
93,755 | AVX Corporation, Olean Advanced Products Division | Olean, NY | April 27, 2018.
93,756 | Wide Open West Illinois, LLC, Loyalty/Retention, Wide Open West | Colorado Springs, CO | April 23, 2017.
93,756A | Wide Open West Illinois, LLC, Loyalty/Retention, Wide Open West | Augusta, GA | April 23, 2017.
93,770 | Anchor Glass Container Corp., Mould Division | Zanesville, OH | April 26, 2017.
93,778 | SL Montevideo Technology Inc., Steel Partners Holdings L.P | Montevideo, MN | April 19, 2018.

The following certifications have been issued. The requirements of Section 222(b) (supplier to a firm whose workers are certified eligible to apply for TAA) of the Trade Act have been met.

TA-W No. | Subject firm | Location | Impact date
92,648 | Ventra Evart, LLC, Plastics Division | Evart, MI | February 15, 2016.
92,821 | Jamestown Industries Inc., Mancan, Inc | Youngstown, OH | April 12, 2016.
92,854 | PM Industries, Inc | Beaverton, OR | April 27, 2016.
93,529 | Eaton Corporation, Vehicle Group North America | Shenandoah, IA | March 1, 2018.
93,705 | Nonmetallic Machining & Assembly | Erie, PA | April 4, 2017.

The following certifications have been issued. The requirements of Section 222(b) (downstream producer to a firm whose workers are certified eligible to apply for TAA) of the Trade Act have been met.

TA-W No. | Subject firm | Location | Impact date
93,208 | Deufol Sunman, CFA, Laborworks | Sunman, IN | October 4, 2016.

The following certifications have been issued. The requirements of Section 222(e) (firms identified by the International Trade Commission) of the Trade Act have been met.

TA-W No. | Subject firm | Location | Impact date
93,140 | U.S. Steel Tubular Products, Inc., Lone Star Tubular Operations, United States Steel Corporation | Lone Star, TX | December 5, 2015.
93,154 | United States Steel Corporation | Granite City, IL | September 29, 2015.
93,155 | California Steel | Fontana, CA | December 5, 2015.
93,456 | Joseph T. Ryerson & Son, Inc., Ryerson Holding Corporation, Comet | Vernon, CA | January 26, 2016.
93,493 | Joseph T. Ryerson & Son, Inc., Ryerson Holding Corporation, Personnel Placements, Dawson Employment Service | Blytheville, AR | January 26, 2016.
93,570 | Steel Warehouse Quad Cities, LLC, Lerman Holding Co., Inc | Rock Island, IL | January 26, 2016.
93,595 | Kloeckner Metals Corporation, 14200 Almeda Drive, Houston Industrial Tradesman, Connect Staffing, etc | Houston, TX | February 26, 2016.
93,605 | ATI Allegheny Ludlum, Inc., ATI Flat Rolled Products, Allegheny Technologies Incorporated | New Bedford, MA | March 30, 2016.
93,620 | Jewel Acquisition, LLC, ATI Flat Rolled Products, Allegheny Technologies Incorporated | Louisville, OH | March 30, 2016.
93,639 | AK Steel Corporation | Butler, PA | March 30, 2016.
93,682 | ATI Flat Rolled Products Holdings, LLC, Vandergrift Operations, Allegheny Technologies Incorporated | Vandergrift, PA | March 30, 2016.
93,689 | Outokumpu Stainless USA, LLC, Outokumpu Oyj, Kelly Services | Calvert, AL | March 30, 2016.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
93,409 | Staber Industries Inc | Groveport, OH
93,486 | Continental Tire The Americas, LLC, Tire Division, Arco Service Corporation | Mt. Vernon, IL
93,542 | Weldbend | Bedford Park, IL
93,596A | Lee Enterprises Incorporated, Beatrice Daily Sun, Graphic Design Division | Beatrice, NE
93,597 | Joseph T. Ryerson & Son, Inc., Ryerson Holding Corporation, LSI, ProDrivers | Carrollton, TX
93,603 | North American Stainless, North American Stainless, Acerinox, S.A | Minooka, IL

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,339 | Ventus Networks LLC, L&T Infotech Limited, L&T Technology Centre | Norwalk, CT
93,469 | Hemlock Semiconductor Operations, LLC, HSC Holdings, LLC, Adecco USA, Inc., Qualified Staffing Services | Hemlock, MI
93,502 | KES Acquisition Company d/b/a Kentucky Electric Steel (KES), Specialty Steel Works Incorporated (SSWI) | Ashland, KY

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,106 | New Castle Stainless Plate, LLC | New Castle, IN
93,237 | A.L. Lee Corporation | Lester, WV
93,277 | Bay Valley Foods Portland Distribution Center, TreeHouse Foods, Inc | Portland, OR
93,308 | Oak-Mitsui Inc., ABC Division, Adecco | Hoosick Falls, NY
93,371 | RL Fisher Inc | Hartford, CT
93,427 | Fremont Plastic Products dba The Plastics Group, Cardinal Staffing, Flex Temps | Fremont, OH
93,445 | CB&I El Dorado, Inc., CB&I Group, Inc | El Dorado, AR
93,452 | Air Products and Chemicals, Inc., Liquefied Natural Gas (LNG) Manufacturing Plant | Hanover, PA
93,474 | TE Connectivity | Mt. Joy, PA
93,490 | LSC Communications, Long Prairie, Manpower, Doherty Staffing | Long Prairie, MN
93,510 | Transact Technologies Incorporated, Staff King | Ithaca, NY
93,545 | Flambeau River Papers LLC | Park Falls, WI
93,547 | J.R. Simplot Company, Food Group Division | West Memphis, AR
93,571 | S.E. Wood Products, Inc | Colville, WA
93,580 | Embarq Missouri, Inc., CenturyLink, Embarq Corporation, Quality Analysis Team | Jefferson City, MO
93,583 | Health Care Service Corporation, Main Center Operations | Naperville, IL
93,586 | West Facilities LLC, West Corporation, Apex Systems, Ask Mgmt, Capstone Consulting Inc., etc | Omaha, NE
93,626 | The C.I. Thornburg Co., Inc., 4340 Terrace Avenue | Huntington, WV
93,626A | The C.I. Thornburg Co., Inc., 4034 Altizer Avenue | Huntington, WV
93,626B | The C.I. Thornburg Co., Inc., 740 Enterprise Drive | Lexington, KY
93,635 | Northrop Grumman Systems Corporation, ISS Contract | Little Rock, AR
93,642 | Fred Meyer Stores, Inc., Print Shop Division, The Kroger Co | Portland, OR
93,651 | IBM Kenexa (Kenexa Survey Software Engineers/Managers), Talent and Collaboration Solutions Division, IBM | Lincoln, NE
93,680 | Vixlet, LLC, Vixlet CA, LLC Division | Los Angeles, CA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
93,516 | Amtrol Inc., Worthington Industries, Inc | West Warwick, RI
93,641 | Bosal Industries Georgia, Inc | Ypsilanti, MI

The following determinations terminating investigations were issued because the worker group on whose behalf the petition was filed is covered under an existing certification.

TA-W No. | Subject firm | Location | Impact date
92,862 | Symantec Corporation, Human Resources Division, Veritas Software Corporation | Springfield, OR
92,951 | Mersen USA Newburyport-MA, LLC, Mersen USA BN Corporation, Resource MFG | El Paso, TX
93,187 | Faurecia | Sterling Heights, MI
93,188 | Faurecia, 17805 Masconic Boulevard | Fraser, MI
93,189 | Faurecia, 6100 Sims Drive | Sterling Heights, MI
93,296 | Trialon Corporation, Trialon Holding Company | Warren, OH
93,421 | Titan Tire Corporation of Bryan | Bryan, OH
93,448 | Manpower Group U.S., Inc., Shared Services Department | Milwaukee, WI
93,527 | Ricoh USA | Lincoln, NE
93,527A | Ricoh USA | Omaha, NE
93,579 | APTIM and Securitas Critical Infrastructure Services | Metropolis, IL
93,584 | Victory Personnel Services, LEDVANCE, LLC, Osram Sylvania, LEDVANCE, GMBH | St. Marys, PA
93,601 | Software Galaxy Systems, Adecco, Yoh Services LLC, Sunrise Systems, etc., GE Inspection Technologies, GE Oil & Gas | Lewistown, PA
93,692 | Adecco, Quantum Spatial, Inc | Maple Grove, MN
93,746 | Clinicient, Inc | Portland, OR

I hereby certify that the aforementioned determinations were issued during the period of March 31, 2018 through May 15, 2018. These determinations are available on the Department's website https://www.doleta.gov/tradeact/taa/taa_search_form.cfm under the searchable listing determinations or by calling the Office of Trade Adjustment Assistance toll free at 888-365-6822.

Signed at Washington, DC this 15th day of May 2018.
Hope D. Kinglock,
Certifying Officer, Office of Trade Adjustment Assistance.

[FR Doc. 2018-15269 Filed 7-17-18; 8:45 am]

BILLING CODE 4510-FN-P